FEDERAL COMMUNICATIONS COMMISSION

Sunshine Act Meeting; FCC to Hold Open Commission Meeting, Thursday, April 10, 2008

April 3, 2008

The Federal Communications Commission will hold an Open Meeting on the subjects listed below on Thursday, April 10, 2008, which is scheduled to commence at 9:30 a.m. in Room TW-C305, at 445 12th Street, SW., Washington, DC.

Item No. | Bureau | Subject
1 | International | TITLE: Spectrum and Service Rules for Ancillary Terrestrial Components in the 1.6/2.4 GHz Big LEO Bands; Globalstar Licensee LLC, Authority to Implement an Ancillary Terrestrial Component (IB Docket No. 07-253). SUMMARY: The Commission will consider a Report and Order and Order Proposing Modification increasing the spectrum available for code division multiple access satellite systems in the 1.6/2.4 GHz Big LEO bands to provide ancillary terrestrial component service from 11 MHz to 19.275 MHz, and technical rules to prevent interference to other services.
2 | Public Safety & Homeland Security | TITLE: Petition for Notice of Inquiry Regarding 911 Call-Forwarding Requirements and Carriers' Blocking Options for Non-Initialized Phones. SUMMARY: The Commission will consider a Notice of Proposed Inquiry in response to a Petition filed by nine public safety organizations.
3 | Public Safety & Homeland Security | TITLE: Commercial Mobile Alert System (PSHS Docket No. 07-287). SUMMARY: The Commission will consider a Report and Order concerning implementation of the Warning, Alert and Response Network (“WARN”) Act.
4 | Wireline Competition | TITLE: TracFone Wireless, Inc. Petition for designation as an Eligible Telecommunications Carrier in New York, Florida, Virginia, Connecticut, Massachusetts, Alabama, North Carolina, Tennessee, Delaware, and New Hampshire (CC Docket No. 96-45). SUMMARY: The Commission will consider an Order addressing petitions by TracFone Wireless, Inc. for designation as an Eligible Telecommunications Carrier (ETC), eligible only to receive universal service Lifeline support, in several states and the District of Columbia.
5 | Enforcement | TITLE: Various Manufacturers, Notices of Apparent Liability for Forfeiture. SUMMARY: The Commission will consider Notices of Apparent Liability for Forfeiture against nine consumer electronics manufacturers for violation of the Commission's requirement that digital television receivers be capable of responding to changes in the content advisory rating system.
6 | Enforcement | TITLE: Various Retailers, Notices of Apparent Liability for Forfeiture. SUMMARY: The Commission will consider Notices of Apparent Liability for Forfeiture against 14 consumer electronics retailers for violation of the Commission's labeling requirement for television receivers capable of receiving only analog signals.
7 | Enforcement | TITLE: Manufacturer, Forfeiture Order and Further Notice of Apparent Liability. SUMMARY: The Commission will consider a Forfeiture Order and Further Notice of Apparent Liability for Forfeiture against a consumer electronics manufacturer for violation of the Commission's rule restricting the importation and interstate shipment of analog-only television receivers and violation of the Commission's rule prohibiting negligent misrepresentation in filings submitted to the Commission.
8 | Enforcement | TITLE: Manufacturer, Notice of Apparent Liability for Forfeiture. SUMMARY: The Commission will consider a Notice of Apparent Liability for Forfeiture against an exercise equipment manufacturer for violation of the Commission's rule restricting the importation and interstate shipment of analog-only television receivers.

Open captioning will be provided for this event. Other reasonable accommodations for people with disabilities are available upon request. Include a description of the accommodation you will need including as much detail as you can. Also include a way we can contact you if we need more information. Make your request as early as possible; please allow at least 5 days' advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 08-1113 Filed 4-4-08; 12:20 pm]

BILLING CODE 6712-01-P